INTERNATIONAL TRADE COMMISSION

[Investigation No. 337-TA-1093]

Certain Mobile Electronic Devices and Radio Frequency and Processing Components Thereof (II); Termination of Investigation

AGENCY: U.S. International Trade Commission.

ACTION: Notice.

SUMMARY: Notice is hereby given that the U.S. International Trade Commission has determined to terminate the above-captioned investigation in its entirety based upon settlement. The investigation is terminated.

FOR FURTHER INFORMATION CONTACT: Sidney A. Rosenzweig, Office of the General Counsel, U.S. International Trade Commission, 500 E Street SW, Washington, DC 20436, telephone (202) 708-2532. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission TDD terminal on (202) 205-1810.

SUPPLEMENTARY INFORMATION: The Commission instituted this investigation on January 18, 2018, based on a complaint filed by Qualcomm Incorporated of San Diego, California. 83 FR 834 (Jan. 8, 2018). The complaint alleged violations of section 337 of the Tariff Act of 1930, as amended, 19 U.S.C. 1337, in the importation into the United States, the sale for importation, or the sale within the United States after importation of articles that infringe claims 1, 7, 8, 10, 11, 17, and 18 of U.S. Patent No. 9,154,356 (“the '356 patent”); claim 4 of U.S. Patent No. 9,473,336 (“the '336 patent”); claims 1, 5-8, 12, 16-18, and 21-22 of U.S. Patent No. 8,063,674 (“the '674 patent”); claims 1-4, 7-9, 11, 17, 20-23, 31-33, and 36 of U.S. Patent No. 7,693,002; and claims 1-3, 10-12, 18, and 22-24 of U.S. Patent No. 9,552,633. 83 FR at 834. The notice of investigation named as the respondent Apple Inc. of Cupertino, California. Id. at 835. The Office of Unfair Import Investigations was also named as a party. Id.

Based on withdrawal of numerous asserted patent claims, see 19 CFR 210.21(a), the investigation had narrowed to claims 1 and 17 of the '356 patent; claim 4 of the '336 patent; and claims 1 and 8 of the '674 patent. Order No. 37 (Aug. 27, 2018), not reviewed, Notice (Sept. 20, 2018); Order No. 43 (Oct. 3, 2018), not reviewed, Notice (Oct. 29, 2018).

On March 26, 2019, the presiding administrative law judge (“ALJ”) issued the final initial determination (“final ID”), which found a violation of section 337 as to claim 1 of the '674 patent, but no violation of section 337 as to the other asserted patent claims.

On April 8, 2019, Qualcomm and Apple filed petitions for Commission review of the final ID. On April 16, 2019, the Commission investigative attorney (“IA”) filed a response to the petitions for review. On April 17, 2019, Qualcomm and Apple filed a joint motion to stay all deadlines in the investigation on the basis of the parties' settlement. On April 19, 2019, the Commission issued a notice granting that motion.

The Commission's April 19, 2019 notice requested that the private parties file a motion to terminate by April 26, 2019, and Qualcomm and Apple complied. The IA concluded that the motion did not comply with Commission rules, including Commission Rules 201.6 and 210.21(b), 19 CFR 201.6, 210.21(b), because it omitted necessary material and overredacted material that is not confidential business information. Qualcomm, Apple, and the IA moved to extend the deadline for IA's response to the motion to terminate to provide Qualcomm and Apple with additional time to amend their motion to terminate and to address the IA's concerns. The Commission granted the extension motion on May 9, 2019.

On May 13, 2019, Qualcomm and Apple filed an amended motion to terminate. On May 21, 2019, the IA responded in partial opposition, explaining that the revised motion still did not comply with Commission rules concerning the redaction of information. Following that partial opposition, the IA coordinated with the private parties to obtain a filing from the private parties in compliance with Commission rules.

On July 24, 2019, the Commission extended the target date for completion of the investigation to August 29, 2019, and required Qualcomm and Apple to file a rules-compliant motion to terminate the investigation no later than August 8, 2019. On August 8, 2019, Qualcomm and Apple filed a joint motion to supplement their earlier amended joint motion to terminate the investigation. On August 16, 2019, the IA responded in support of the motion.

The Commission finds that Qualcomm's and Apple's motion, as amended and supplemented, is proper in form and complies with Commission Rules. See 19 CFR 201.6(a), 210.21(b). The Commission further finds that termination of the investigation will not adversely affect the public interest. Accordingly, the Commission has determined to grant the amended and supplemented motion. The Commission hereby terminates the investigation.

The authority for the Commission's determination is contained in section 337 of the Tariff Act of 1930, as amended (19 U.S.C. 1337), and in Part 210 of the Commission's Rules of Practice and Procedure (19 CFR part 210).

By order of the Commission.
Issued: August 20, 2019.
Lisa Barton,
Secretary to the Commission.

[FR Doc. 2019-18189 Filed 8-22-19; 8:45 am]

BILLING CODE 7020-02-P